DEPARTMENT OF DEFENSE

Department of the Navy

Notice of Availability of Government-Owned Inventions; Available for Licensing

AGENCY: Department of the Navy, DoD.

ACTION: Notice.

SUMMARY: The Department of the Navy hereby gives notice of the availability of exclusive or partially exclusive licenses to practice worldwide under the following issued patents. Any license granted shall comply with 35 U.S.C. 209 and 37 CFR Part 404. Applications will be evaluated utilizing the following criteria: (1) Ability to manufacture and market the technology; (2) manufacturing and marketing ability; (3) time required to bring technology to market and production rate; (4) royalties; (5) technical capabilities; and (6) small business status.

7,182,599, “Method and apparatus for removing mercury and mercury containing particles from dental waste water”, Inventors: Jeffrey Gullett, John Kuehne, and Mark Stone, issued February 27, 2007; 7,201,902, “Production of recombinant protein PAP31 for the diagnosis and prevention of bartonella bacilliformis infection”, Inventors: Wei Mei Ching, Laura Hendrix, and Jesus Gonzalez, issued April 10, 2007; 7,306,808, “Orientia tsutsugamushi truncated recombinant outer membrane protein (r47 and r57) vaccines diagnostics and therapeutics for scrub typhus and HIV infections”, Inventors: Wei Mei Ching, Chien Chung Chao, and Hong Ge, issued December 11, 2007; 7,329,503, “Identification of antigens for diagnosis and prevention of Q fever (recombinant antigens for the detection of coxiella burnetii)”, Inventors: Wei Mei Ching, and Chien Chung Chao, issued February 12, 2008; 7,335,477, “Expression and refolding of truncated recombinant major outer membrane protein antigen (r56) of orientia tsutsugamushi and its use in antibody based detection assays and vaccines”, Inventors: Wei Mei Ching, Gregory Dasch, and Daryl Kelly, issued February 26, 2008; 7,371,821, “Cloning and expression of the full length 110 KDA antigen of orientia tsutsugamushi to be used as a vaccine component against scrub typhus”, Inventors: Wei Mei Ching and Chien Chung Chao, issued May 13, 2008; 7,504,202, “A rapid immunoassay of anthrax protective antigen in vaccine cultures by fluorescence polarization”, Inventors: Malford Cullum, Lloyd Simonson, Paul Hine, Chun Shih, Diane Bienek, Sukjoon Park, and James Ragain, issued March 17, 2009; 7,544,778, “Recombinant antigens for diagnosis and prevention of murine typhus”, Inventor: Wei Mei Ching, issued June 9, 2009; 7,638,130, “Expression and refolding of truncated recombinant major outer membrane protein antigen (r56) of orientia tsutsugamushi and its use in antibody based detection assays and vaccines”, Inventors: Wei Mei Ching, Gregory Dasch, and Daryl Kelly, issued December 29, 2009; 7,649,028, “Interim dental dressing and restorative material”, Inventors: Amer Tiba, David Charlton, and James Ragain, issued January 29, 2010; 7,673,746, “Recycling container (to minimize release of Hg vapor) for the collection and temporary storage of mercury contaminated wastes in the dental operatory”, Inventors: Mark Stone, Ronald Karaway, and Denise Berry, issued March 9, 2010; and their related foreign filings.

DATES: Applications for a non-exclusive, exclusive or partially exclusive license may be submitted at any time from the date of this notice.

ADDRESSES: Submit applications to the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone 301-319-7428 or e-mail at: charles.schlagel@med.navy.mil.

Dated: March 30, 2010
A.M. Vallandingham,
Lieutenant Commander, Judge Advocate Generals Corps, U.S. Navy, Federal Register Liaison Officer.

[FR Doc. 2010-7732 Filed 4-5-10; 8:45 am]

BILLING CODE 3810-FF-P